DEPARTMENT OF COMMERCE

National Oceanic and Atmospheric Administration

Proposed Information Collection; Comment Request; Papahānaumokuākea Marine National Monument Permit Application and Reports for Permits

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before December 9, 2019.

ADDRESSES: Direct all written comments to Adrienne Thomas, PRA Officer, NOAA, 151 Patton Avenue, Room 159, Asheville, NC 28801 (or at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Justin Rivera, Papahānaumokuākea Marine National Monument, NOAA/Inouye Regional Center, NOS/ONMS/PMNM/Attn.: Justin Rivera, 1845 Wasp Blvd., Building 176, Honolulu, HI 96818, 808-725-5831, or Justin.Rivera@noaa.gov.

SUPPLEMENTARY INFORMATION:

I. Abstract

On June 15, 2006, President Bush established the Papahānaumokuākea Marine National Monument by issuing Presidential Proclamation 8031 (71 FR 36443, June 26, 2006) under the authority of the Antiquities Act (16 U.S.C. 431). The Secretary of Commerce, through the National Oceanic and Atmospheric Administration (NOAA), has primary responsibility regarding the management of the marine areas of the Monument, in consultation with the Secretary of the Interior. Similarly, the Secretary of the Interior, through the Fish and Wildlife Service (FWS), has sole responsibility for management of the areas of the Monument that overlay the Midway Atoll National Wildlife Refuge, the Battle of Midway National Memorial, and the Hawaiian Islands National Wildlife Refuge, in consultation with the Secretary of Commerce.

The Proclamation includes restrictions and prohibitions regarding activities in the Monument consistent with the authority provided by the act. Specifically, the Proclamation prohibits access to the Monument except when passing through without interruption or as allowed under a permit issued by NOAA and the U.S. Fish and Wildlife Service (FWS). Vessels passing through the Monument without interruption are required to notify NOAA and FWS upon entering into and leaving the monument. Individuals wishing to access the Monument to conduct certain regulated activities must first apply for and be granted a permit issued by NOAA and FWS to certify compliance with vessel monitoring system requirements, Monument regulations, and best management practices.

On August 29, 2006, NOAA and FWS published a final rule codifying the provisions of the proclamation (71 FR 51134). These agencies have since worked extensively with the State to ensure the permitting requirements and processes of all three entities are sufficiently coordinated to ensure applicants for permits for Monument activities require only a single application and receive one, combined agency permit.

The information submitted by permit applicants will be used to decide whether to approve or deny a permit application. In making this decision, the agencies will consider such factors as:

• The professional qualifications and financial ability of the applicant as related to the proposed activity;

• The duration of the activity and its effects;

• The appropriateness of the methods and procedures proposed by the applicant for the conduct of the activity;

• The extent to which the conduct of the activity may diminish or enhance the qualities for which the Monument was designated;

• The end value of the activity; and

• Other such matters as agency staff deem appropriate.

In addition to informing the agencies' decisions on permit applications, information submitted in permit applications and reports submitted pursuant to permit conditions may also be used by the agencies to inform—

• Administrative appeals of permit decisions;

• Decision making on a permit amendment request or another permit application; or

• Other management actions (e.g., emergency response and enforcement).

In terms of frequency of use, the information submitted in permit applications will, in general, only be used at the time the application is submitted to make a final decision on the application. Some of the information may also be used subsequent to the initial decision making to inform management actions or decision making. For example, a survey of a project location by one permit applicant may be used by the agencies in the future to respond to a vessel grounding in the same area in addition to facilitating the agencies' decision on that application. Information submitted in a report will be used to periodically assess the permittee's compliance with permit terms and conditions and to assist in evaluating the appropriateness of the permitted activity.

II. Method of Collection

Respondents have a choice of either electronic or paper forms. Methods of submittal include email of electronic forms, and mail and facsimile transmission of paper forms.

III. Data

OMB Control Number: 0648-0548.

Form Number: None.

Type of Review: Regular submission

Affected Public: Individuals, non-profit institutions; Federal, State, local, government, Native Hawaiian organizations; business or other for-profit organizations.

Estimated Number of Respondents: 411.

Estimated Time per Response: Research, Conservation and Management and Education (“general” permits), 5 hours; Special Ocean Use permits, 10 hours; Native Hawaiian Practices permits, 8 hours; Recreation permits, 6 hours; permit modification requests and final reports, 10 hours; and annual reports, 5 hours.

Estimated Total Annual Burden Hours: 1,343.

Estimated Total Annual Cost to Public: $61,783 in recordkeeping/reporting costs and vessel monitoring system installation and maintenance.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-21993 Filed 10-8-19; 8:45 am]

BILLING CODE 3510-NK-P